DEPARTMENT OF ENERGY

Federal Energy Regulatory Commission

[Docket Nos. RP00-477-000, RP01-18-000 and RP01-81-000]

Tennessee Gas Pipeline Company; Notice of Settlement and Technical Conferences

February 26, 2001.

Take notice that a settlement conference to discuss the various issues raised by Tennessee's Order No. 637 filing in Docket No. RP00-477-000, et al. will be held on Tuesday, March 6, 2001, at 9:00 am, in a room to be designated at the offices of the Federal Energy Regulatory Commission, 888 First Street, NE., Washington, DC 20426.

All interested parties are permitted to attend the settlement conference.

Upon conclusion of the settlement conference, take notice that a technical conference to discuss the various issues raised by Tennessee's Order No. 637 filing in Docket No. RP00-477-000, et al. will be held in a room to be designated at the offices of the Federal Energy Regulatory Commission, 888 First Street, NE., Washington, DC 20426.

All interested persons and Staff are permitted to attend the technical conference.

David P. Boergers,
Secretary.

[FR Doc. 01-5098 Filed 3-1-01; 8:45 am]

BILLING CODE 6717-01-M